DEPARTMENT OF THE INTERIOR

Fish and Wildlife Service

National Wildlife Refuge System: Mission Goals and Purposes: Policy: Reopening of Comment Period: Draft Policy on National Wildlife Refuge System: Mission, Goals, and Purposes (Notice); Draft Appropriate Refuge Uses Policy Pursuant to the National Wildlife Refuge System Improvement Act of 1997 (Notice); Draft Wildlife-Dependent Recreational Uses Policy Pursuant to the National Wildlife Refuge System Improvement Act of 1997 (Notice); and Draft Wilderness Stewardship Policy Pursuant to the Wilderness Act of 1964 (Notice)

AGENCY: Fish and Wildlife Service, Interior.

ACTION: Notice; further reopening of comment period.

SUMMARY: We are reopening the comment period on the Federal Register notice dated January 16, 2001, that invites the public to comment on the following draft policies: National Wildlife Refuge System: Mission, Goals, and Purposes; Appropriate Refuge Uses Policy Pursuant to the National Wildlife Refuge System Improvement Act of 1997; Wildlife-Dependent Recreational Uses Policy Pursuant to the National Wildlife Refuge System Improvement Act of 1997; and Wilderness Stewardship Policy Pursuant to the Wilderness Act of 1964.

DATES: The comment period will reopen on June 18 and close midnight, June 30, 2001.

ADDRESSES: Submit comments in the following ways: in writing to Acting Chief, Division of Conservation Planning and Policy, National Wildlife Refuge System, U.S. Fish and Wildlife Service, 4401 N. Fairfax Drive, Room 670, Arlington, Virginia 22203; by FAX to (703) 358-2248; or by e:mail to one of the following addresses:

Mission And Goals Policy

Comments@fws.gov;

Appropriate_

Uses_

Policy_Comments@fws.gov;

Wildlife_Dependent_

Recreational_Uses_

Policy_Comments@fws.gov; or

Wilderness_Policy_Comments@fws.gov.

FOR FURTHER INFORMATION CONTACT: Barry Stieglitz, Acting Chief, Division of Conservation Planning and Policy, National Wildlife Refuge System (703) 358-1744.

SUPPLEMENTARY INFORMATION: In a Federal Register notice dated January 16, 2001 (66 FR 3668) we published draft policies for: National Wildlife Refuge System: Mission, Goals, and Purposes (Notice); Appropriate Refuge Uses Policy Pursuant to the National Wildlife Refuge System Improvement Act of 1997 (Notice); Wildlife-Dependent Recreational Uses Policy Pursuant to the National Wildlife Refuge System Improvement Act of 1997 (Notice); and Wilderness Stewardship Policy Pursuant to the Wilderness Act of 1964 (Notice). These policies, affecting management and use of the National Wildlife Refuge System, represent the culmination of our initial policy development in response to the landmark National Wildlife Refuge System Improvement Act of 1997.

In a subsequent Federal Register notice dated March 15, 2001 (66 FR 15136) we extended the comment period until April 19, 2001, to ensure that the public had an adequate opportunity to review and comment on our draft policies.

To allow for continued discussion with the States on these policies, we reopened the comment period for an additional 30 days in a Federal Register notice dated May 15, 2001 (66 FR 26879). As a correction to the May 15, 2001, notice, comments received between April 19, 2001, and May 15, 2001, will be considered and do not need to be resubmitted.

To allow for further discussion with the States on these policies, we are extending the comment period until June 30, 2001.

Dated: June 8, 2001.
Marshall P. Jones, Jr.,
Acting Director.

[FR Doc. 01-15655 Filed 6-20-01; 8:45 am]

BILLING CODE 4310-55-P